DEPARTMENT OF THE INTERIOR

National Park Service

Notice of Inventory Completion: U.S. Department of Agriculture, Forest Service, Gila National Forest, Silver City, NM and Southwest Museum of the American Indian, Autry National Center, Los Angeles, CA; Correction

AGENCY: National Park Service, Interior.

ACTION: Notice; correction.

Notice is here given in accordance with the Native American Graves Protection and Repatriation Act (NAGPRA), 25 U.S.C. 3003, of the completion of an inventory of human remains and associated funerary objects in the control of the U.S. Department of Agriculture, Forest Service, Gila National Forest, Silver City, NM and in the possession of the Southwest Museum of the American Indian, Autry National Center, Los Angeles, CA. The human remains and associated funerary objects were removed from Tularosa Cave, Catron County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice supersedes the Notice of Inventory Completion previously published in the Federal Register of October 31, 2007 (FR Doc. E7-21379, pages 61674-61675). This notice corrects the controller of the human remains and associated funerary objects, pursuant to 43 CFR 10.2(a)(3)(ii), as review of the field records and maps associated with the excavation of the site, indicates that the Tularosa Cave is located on Federal lands that are administered by the U.S. Department of Agriculture, Forest Service, Gila National Forest, Silver City, NM. Therefore, the Southwest Museum of American Indian does not have control of the human remains and associated funerary objects. This notice also corrects the consulted tribes and the cultural affiliation of the human remains and associated funerary objects from what had previously been published by the Southwest Museum of the American Indian.

A detailed assessment of the human remains was made by the U.S. Department of Agriculture, Forest Service, Gila National Forest professional staff in consultation with the Hopi Tribe of Arizona; Pueblo of Acoma, New Mexico; and Zuni Tribe of the Zuni Reservation, New Mexico.

In 1905, human remains representing a minimum of one individual were removed from Tularosa Cave in Catron County, NM, by Mr. Peter Goddard Gates (P.G. Gates) as part of the Museum-Gates Expedition, a collaborative excavation funded by the United States National Museum, now the Smithsonian Institution, and amateur archeologist, Mr. Gates. On an unknown date, Mr. Gates transferred the human remains into the possession of the California Institute of Technology as part of the larger P.G. Gates Collection. In 1946, the California Institute of Technology loaned the P.G. Gates Collection to the Southwest Museum of the American Indian. In 2006, the California Institute of Technology transferred possession of the P.G. Gates Collection to the Southwest Museum of the American Indian. No known individual was identified. The four associated funerary objects are one olivella shell bracelet, two mats made of rush, and one fragment of a woven textile of unknown use.

Archeological evidence of both material culture and geographic settlement patterns indicate that Tularosa Cave is an Upland Mogollon site that was inhabited between 300 A.D. - 1300 A.D. Abandonment of nearly all Mogollon homeland sites before the protohistoric period suggests a possible population migration into neighboring Puebloan territory. The territory of the Upland Mogollon stretched from south-central Arizona to south-central New Mexico. The Upland Mogollon territories are claimed, currently inhabited, or used by the Pueblo of Acoma, New Mexico; Hopi Tribe of Arizona; and Zuni Tribe of the Zuni Reservation, New Mexico. Villages had pithouses or pueblo-style houses. Most archeological evidence linking Upland Mogollon to present-day tribes rely on ceramics, which suggest the early establishment of brownware producing groups. Based on material culture, architecture, and site organization, the Tularosa Cave has been identified as rock shelter occupied between A.D. 500-1300. Present-day descendents of the Upland Mogollon are the Pueblo of Acoma, New Mexico; Hopi Tribe of Arizona; and Zuni Tribe of the Zuni Reservation. Oral traditions presented by representatives of the Pueblo of Acoma, New Mexico; the Hopi Tribe of Arizona; and Zuni Tribe of the Zuni Reservation, New Mexico support cultural affiliation.

Officials of the U.S. Department of Agriculture, Forest Service, Gila River National Forest have determined that, pursuant to 25 U.S.C. 3001 (9-10), the human remains described above represent the physical remains of one individual of Native American ancestry. Officials of the U.S. Department of Agriculture, Forest Service, Gila River National Forest also have determined that, pursuant to 25 U.S.C. 3001 (3)(A), the four objects described above are reasonably believed to have been placed with or near individual human remains at the time of death or later as part of the death rite or ceremony. Lastly, officials of the U.S. Department of Agriculture, Forest Service, Gila River National Forest have determined that, pursuant to 25 U.S.C. 3001 (2), there is a relationship of shared group identity that can be reasonably traced between the Native American human remains and associated funerary objects and the Hopi Tribe of Arizona; Pueblo of Acoma, New Mexico; and Zuni Tribe of the Zuni Reservation, New Mexico.

Representatives of any other Indian tribe that believes itself to be culturally affiliated with the human remains and associated funerary objects should contact Dr. Frank E. Wozniak, NAGPRA Coordinator, Southwestern Region, USDA Forest Service, 333 Broadway Boulevard SE, Albuquerque, NM 87102, telephone (505) 842-3238, before February 22, 2008. Repatriation of the human remains and associated funerary objects to the Hopi Tribe of Arizona; Pueblo of Acoma, New Mexico; and Zuni Tribe of the Zuni Reservation, New Mexico may proceed after that date if no additional claimants come forward.

The U.S. Department of Agriculture, Forest Service, Gila National Forest is responsible for notifying Hopi Tribe of Arizona; Mescalero Apache Tribe of the Mescalero Reservation, New Mexico; Ohkay Owingeh, New Mexico (formerly the Pueblo of San Juan); Pueblo of Acoma, New Mexico; Pueblo of Cochiti, New Mexico; Pueblo of Jemez, New Mexico; Pueblo of Isleta, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico that this notice has been published.

Dated: November 26, 2007
Sherry Hutt,
Manager, National NAGPRA Program.

[FR Doc. E8-1112 Filed 1-22-08; 8:45 am]

BILLING CODE 4312-50-S